DEPARTMENT OF DEFENSE

Office of the Secretary

32 CFR Part 199

Civilian Health and Medical Program of the Uniformed Services (CHAMPUS); TRICARE Prime Enrollment

Correction

In rule document 00-16263 beginning on page 39804 in the issue of Wednesday, June 28, 2000, make the following correction:

§199.17 [Corrected]

On page 39805, in the third column, in the third paragraph, in §199.17 “(o)(6)” should read “(o)(7)”.

[FR Doc. C0-16263 Filed 7-20-00; 8:45 am]

BILLING CODE 1505-01-D

FEDERAL HOUSING FINANCE BOARD

[No. 2000-N-4]

Federal Home Loan Bank Members Selected for Community Support Review

Correction

In notice document 00-17134, beginning on page 43752, in the issue of Friday, July 14, 2000, make the following corrections:

1.On page 43754, in the table, the sixth line from the bottom, remove the entire entry for “ Delaware National Bank”.

2. On page 43756, in the table, above the fifth line from the bottom, add the heading “ Federal Home Loan Bank of Indianapolis— District 6”.

[FR Doc. C0-17134 Filed 7-20-00; 8:45 am]

BILLING CODE 1505-01-D

SECURITIES AND EXCHANGE COMMISSION

[Release No. 34-42908; File No. SR-NASD-00-22]

Self Regulatory Organizations: Notice of Filing of Proposed Rule Change by the National Association of Securities Dealers, Inc. Relating to Limit Order Protection for OTC Bulletin Board Securities

Correction

In notice document 00-15242, beginning on page 37808, in the issue of Friday, June 16, 2000, make the following correction:

On page 37810, in the third column, under the heading “ 2. Statutory Basis”, in the ninth line, “protest” should read “protect”.

[FR Doc. C0-15242 Filed 7-20-00; 8:45 am]

BILLING CODE 1505-01-D

DEPARTMENT OF TRANSPORTATION

Federal Aviation Administration

14 CFR Part 71

[Airspace Docket No. 00-AGL-03]

Modification of Class D Airspace: Rapic City, SD; Modification of Class D Airspace; Rapid City Ellsworth AFB, SD; and Modification of Class E Airspace; Rapid City, SD

Correction

In rule document 00-12164 beginning on page 30878 in the issue of Monday, May 15, 2000, make the following corrections:

§71.1 [Corrected]

1. On page 30878, in §71.1, in the third column, under AGL SD D Rapid City, SD [Revised] ,in the sixth line, “5,7000” should read “ 5,700”.

2. On the same page, in the same column, in the same paragraph, in the 11th line, “Ellsworth AFB SC” should read “Ellsworth AFB SD”.

3. On the same page, in the same column, in last italicized heading, “Paragraph 6003” should read “Paragraph 6004”.

[FR Doc. C0-12164 Filed 7-20-00; 8:45 am]

BILLING CODE 1505-01-D